DEPARTMENT OF TRANSPORTATION

Federal Aviation Administration

14 CFR Part 71

[Airspace Docket No. 00-AWP-6]

Establishment of Class D Airspace; Sacramento Mather Airport, CA

AGENCY: Federal Aviation Administration (FAA), DOT.

ACTION: Final rule.

SUMMARY: This action establishes Class D airspace extending upward from the surface to and including 2,600 feet MSL within a 4.5-mile radius of Sacramento Mather Airport in Sacramento, CA. A review of airspace and procedures has made this action necessary. Last year a Federal Contract Tower commenced operations at this location on a full-time basis, serving a large volume of air cargo and general aviation traffic. The intended effect of this action is to establish Class D airspace consistent with the nature of operations at Sacramento Mather Airport.

EFFECTIVE DATE: May 17, 2001.

FOR FURTHER INFORMATION CONTACT: Jeri Carson, Airspace Specialist, AWP-520.11, Air Traffic Division, Western-Pacific Region, Federal Aviation Administration, 15000 Aviation Boulevard, Lawndale, California 90261, telephone (310) 725-6611.

SUPPLEMENTARY INFORMATION:

Background

On November 28, 2000, the FAA published a document (65 FR 70823) proposing to establish Class D airspace at Sacramento Mather Airport, CA. Interested parties were invited to participate in this rulemaking effort by submitting comments on the proposal to the FAA. In the ensuing comment period, which closed on January 12, 2001, the FAA received no comments on the proposed action.

The Rule

This action amends 14 CFR part 71 by establishing Class D airspace extending upward from the surface to and including 2,600 feet MSL within a 4.5-mile radius of Sacramento Mather Airport in Sacramento, CA.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

Class D airspace areas are published in Paragraph 5000 of FAA Order 7400.9H, Airspace Designations and Reporting Points, dated September 1, 2000, and effective September 16, 2000, through September 15, 2001, which is incorporated by reference in 14 CFR 71.1. The Class D airspace designation listed in this document will be published subsequently in that Order.

List of Subjects in 14 CFR Part 71

Airspace, Incorporation by reference, Navigation (air).

Adoption of the Amendment

In consideration of the foregoing, the Federal Aviation Administration amends part 71 of Title 14, Code of Federal Regulations as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 5000 Class D Airspace

* * * * *

AWP CA D Sacramento Mather Airport, CA [New]

Sacramento Mather Airport, CA

(Lat. 38°33′14″, long. 121°17′51″W)

That airspace extending upward from the surface to and including 2,600 feet MSL within a 4.5-mile radius of Sacramento Mather Airport.

* * * * *

Issued in Los Angeles, California, on February 12, 2001.
John Clancy,
Manager, Air Traffic Division, Western-Pacific Region.

[FR Doc. 01-4678 Filed 2-23-01; 8:45 am]

BILLING CODE 4910-13-M